DEPARTMENT OF THE INTERIOR

Bureau of Ocean Energy Management

[MMAA104000]

Outer Continental Shelf Scientific Committee; Announcement of Plenary Session

AGENCY: Bureau of Ocean Energy Management (BOEM), Interior.

ACTION: Notice of Meeting.

SUMMARY: The Outer Continental Shelf (OCS) Scientific Committee (SC) will meet at the Marriott Downtown New Orleans Convention Center.

DATES: Tuesday, May 14, 2013, Plenary Session from 9:00 a.m. to noon and Discipline Breakout Groups from 1:30 p.m. to 5:00 p.m.; Wednesday, May 15, 2013, Discipline Breakout Groups from 8:30 a.m. to 5:00 p.m.; and on Thursday, May 16, 2013, Plenary Session from 10:00 a.m. to 4:30 p.m.

ADDRESSES: 859 Convention Center Boulevard, New Orleans, Louisiana 70130, telephone (504) 613-2888.

FOR FURTHER INFORMATION CONTACT: A copy of the draft agenda will be located on the OCS Scientific Committee's Web site at: http://www.boem.gov/About-BOEM/Public-Engagement/Federal-Advisory-Committees/OCS-Scientific-Committee/Index.aspx, or can be requested from BOEM by emailing Ms. Phyllis Clark at Phyllis.Clark@boem.gov. Other inquiries concerning the OCS SC meeting should be addressed to Dr. Rodney Cluck, Executive Secretary to the OCS SC, Bureau of Ocean Energy Management, 381 Elden Street, Mail Stop HM-3115, Herndon, Virginia 20170-4817, or by calling (703) 787-1087 or via email at Rodney.Cluck@boem.gov.

SUPPLEMENTARY INFORMATION: The OCS SC will provide advice on the feasibility, appropriateness, and scientific value of the OCS Environmental Studies Program to the Secretary of the Interior through the Director of BOEM. The SC will review the relevance of the research and data being produced to meet BOEM's scientific information needs for decision making and may recommend changes in scope, direction, and emphasis.

On Tuesday, May 14, the Committee will meet in plenary session from 9:00 a.m. to noon. Mr. Robert LaBelle, the Acting Chief Environmental Officer, will address the Committee on issues and challenges BOEM is facing and will present recent accomplishments of BOEM. There will be an update from each region's Environmental Studies Chief on OCS activities and current issues. Discipline breakout groups (i.e., biology/ecology, physical sciences, and social sciences) will meet from 1:30 p.m. to 5:00 p.m. to review the specific research plans for BOEM's regional offices for Fiscal Years 2014 and 2015.

On Wednesday, May 15, the Committee will meet in discipline breakout groups to continue their review of the specific research plans from 8:30 a.m. to 5:00 p.m.

On Thursday, May 16, from 10:00 a.m. to 11:45 a.m., the Committee will meet in plenary session for reports of the individual discipline breakout sessions of the previous day. Continuation of the individual discipline breakout sessions will resume at 1:00 p.m. until 3:00 p.m. Public comment will be held from 3:00 p.m. to 3:30 p.m. and Committee business will be discussed from 3:30 p.m. to 4:30 p.m.

The meetings are open to the public. Approximately 30 visitors can be accommodated on a first-come-first-served basis at the plenary session.

Authority: Federal Advisory Committee Act, Pub. L. 92-463, 5 U.S.C., Appendix I, and the Office of Management and Budget's Circular A-63, Revised.

Dated: April 22, 2013.
Robert P. LaBelle,
Acting Chief Environmental Officer, Bureau of Ocean Energy Management.

[FR Doc. 2013-10008 Filed 4-26-13; 8:45 am]

BILLING CODE 4310-MR-P